DEPARTMENT OF LABOR

Employment and Training Administration

[TA-W-56,361; TA-W-56,361A; TA-W-56,361B; and TA-W-56,361C]

Hedstrom Corporation, Arlington Heights, IL, Including Employees of Hedstrom Corporation Arlington Heights, IL Working In The States of: Nevada, Texas, Florida; Amended Certification Regarding Eligibility To Apply for Worker Adjustment Assistance and Alternative Trade Adjustment Assistance

In accordance with section 223 of the Trade Act of 1974 (19 U.S.C. 2273) the Department of Labor issued a Certification of Eligibility to Apply for Worker Adjustment Assistance and Alternative Trade Adjustment Assistance on February 8, 2005, applicable to workers of Hedstrom Corporation, Arlington Heights, Illinois. The notice was published in the Federal Register on March 9, 2005 (70 FR 11704).

At the request of the State agency, the Department reviewed the certification for workers of the subject firm. New information shows that worker separations have occurred involving employees of Hedstrom Corporation, Arlington Heights, Illinois working in Nevada, Texas and Florida. These employees provide support function services for the production of children's leisure products such as swing sets, trampolines and sleeping bags produced at the Arlington Heights, Illinois location of the subject firm.

Based on these findings, the Department is amending this certification to include employees of Hedstrom Corporation, Arlington Heights, Illinois working in Nevada, Texas and Florida.

The intent of the Department's certification is to include all workers of Hedstrom Corporation who were adversely affected by increased company imports.

The amended notice applicable to TA-W-56,361 is hereby issued as follows:

All workers of Hedstrom Corporation, Arlington Heights, Illinois (TA-W-56,361), including employees of Hedstrom Corporation, Arlington Heights, Illinois, working in Nevada (TA-W-56,361A), Texas (TA-W-56,361B), and Florida (TA-W-56,361C), who became totally or partially separated from employment on or after January 12, 2004, through February 8, 2007, are eligible to apply for adjustment assistance under Section 223 of the Trade Act of 1974, and are also eligible to apply for alternative trade adjustment assistance under Section 246 of the Trade Act of 1974.

Signed in Washington, DC this 1st day of April 2005.
Elliott S. Kushner,
Certifying Officer, Division of Trade Adjustment Assistance.

[FR Doc. E5-1927 Filed 4-22-05; 8:45 am]

BILLING CODE 4510-30-P